INTERNATIONAL TRADE COMMISSION

[Inv. No. 337-TA-649]

Notice of Commission Determination Not To Review an Initial Determination Granting Complainant's Motion To Terminate the Investigation; Termination of Investigation; In the Matter of Certain Semiconductor Chips With Minimized Chip Package Size and Products Containing Same (IV)

AGENCY: U.S. International Trade Commission.

ACTION: Notice.

SUMMARY: Notice is hereby given that the U.S. International Trade Commission has determined not to review an initial determination (“ID”) (Order No. 25) of the presiding administrative law judge (“ALJ”) granting complainant Tessera, Inc.'s motion to terminate the investigation.

FOR FURTHER INFORMATION CONTACT: Michael Liberman, Esq., Office of the General Counsel, U.S. International Trade Commission, 500 E Street, SW., Washington, DC 20436, telephone 202-205-3152. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On May 28, 2008, the Commission instituted an investigation under section 337 of the Tariff Act of 1930, 19 U.S.C. 1337, based on a complaint filed by Tessera, Inc. of San Jose, California (“Tessera”), alleging a violation of section 337 in the importation, sale for importation, and sale within the United States after importation of certain semiconductor chips with minimized chip package size and products containing same that infringe certain claims of U.S. Patents Nos. 5,852,326; 6,433,419; and 5,679,977. 73 FR 30628 (May 28, 2008). The complaint named numerous entities as respondents. Subsequently, the complaint and Notice of Investigation were amended to add U.S. Patent No. 5,663,106, and the target date for completion of this investigation was extended.

On March 12, 2009, complainant Tessera moved to terminate the investigation based on withdrawal of the complaint. On July 17, 2009, the ALJ issued Order No. 25 granting the motion. No petitions for review were filed. The Commission has determined not to review the ID.

The authority for the Commission's determination is contained in section 337 of the Tariff Act of 1930, as amended (19 U.S.C. 1337), and in section 210.42(h) of the Commission's Rules of Practice and Procedure (19 CFR 210.42(h)).

By order of the Commission.
Issued: August 7, 2009.
Marilyn R. Abbott,
Secretary to the Commission.

[FR Doc. E9-19411 Filed 8-12-09; 8:45 am]

BILLING CODE 7020-02-P